ENVIRONMENTAL PROTECTION AGENCY

[FRL-7462-5]

Agency Information Collection Activities: Proposed Collection; Comment Request; “Clean Air Act Section 608-National Refrigerant Recycling and Emissions Reduction Program”

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): “National Recycling and Emissions Reduction Program,” EPA ICR Number: 1626.08, OMB Control Number: 2060-0256, expiration date—07/31/2003. Before submitting the ICR to OMB for review and approval, EPA is soliciting comments on specific aspects of the proposed information collection as described below.

DATES: Comments must be submitted on or before May 9, 2003.

ADDRESSES: Follow the detailed instructions in SUPPLEMENTARY INFORMATION.

FOR FURTHER INFORMATION CONTACT: Julius Banks, Global Programs Division, U.S. EPA (6205J), 1200 Pennsylvania Avenue, NW., Washington, DC 20460; phone: (202) 564-9870; facsimile: (202) 566-2155; Email address: banks.julius@epa.gov.

SUPPLEMENTARY INFORMATION: EPA has established a public docket for this ICR under Docket ID number OAR-2003-0018, which is available for public viewing at the Office of Air and Radiation (OAR) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OAR Docket is (202) 566-1741. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 60 days of this notice, and according to the following detailed instructions: Submit your comments to EPA online using EDOCKET (our preferred method), by email to a-and-r-docket@epa.gov, or by mail to: EPA Docket Center, Environmental Protection Agency, Office of Air and Radiation, Mail Code 6102T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Affected Entities: Entities potentially affected by this action are refrigeration and air-conditioning service and repair shops; plumbing, heating, and air-conditioning contractors; refrigerated transport service dealers; scrap metal recyclers; automobile dismantlers and recyclers. Additional entities affected include Clean Air Act section 608 technician certification programs, equipment certification programs, refrigerant wholesalers and reclaimers, and other establishments that perform refrigerant removal, service, and/or disposal.

Title: “National Refrigerant Recycling and Emissions Reduction Program” (OMB Control No. 2060-0256; EPA ICR No. 1626.08) expiring 7/31/03.

Abstract: In 1993, EPA promulgated regulations under section 608 of the Clean Air Act Amendments of 1990 for the recycling of ozone depleting refrigerants, specifically chlorofluorocarbons (CFCs) and hydrofluorocarbons (HCFCs), in air-conditioning and refrigeration equipment. These regulations were published on May 14, 1993 (58 FR 28660) and codified in 40 CFR subpart F (§ 82.150 et seq.).

The mandatory reporting and recordkeeping requirements are found at 40 CFR 82.166, and are used to judge the effectiveness of EPA regulations aimed at reducing emissions of ozone-depleting substances and meet the Unites States' obligation under the Montreal Protocol to reduce the use and emissions of ozone depleting substances (ODSs) to the lowest achievable level. The reporting and recordkeeping requirements affect persons who sell or distribute any class I or class II substance for use as a refrigerant; purchasers of any class I or class II refrigerants who employ certified technicians; EPA-approved refrigerant recovery equipment testing organizations; EPA-approved technician certification programs; EPA-certified refrigerant reclaimers; persons disposing (including metal scrap recyclers) of small appliances, motor vehicle air-conditioners (MVACs), and MVAC-like appliances; persons servicing appliances normally containing 50 or more pounds of refrigerant; owners/operators of appliances normally containing 50 or more pounds of refrigerant; and service technicians certified under 40 CFR 82.161.

An agency may not conduct or sponsor, and a person is not required to respond to a collection of information unless it displays a currently valid OMB Control Number. The OMB Control Numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The annual burden is reported in this notice by annual respondent burden. This estimate includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. This ICR renewal does not include any burden for third-party or public disclosures that were not previously reviewed and approved by OMB.

The annual burden hours for this collection of information are estimated as follows: 16 hours for the two EPA-approved equipment testing organizations; 1,125 hours for an estimated 2,250 service establishments that will change ownership or enter the market; 12.5 hours for an estimated 25 disposal establishments that change ownership or enter the market; 10,000 hours for the maintenance of copies of signed statements by an estimated 500 disposal establishments; 40 hours for certification of an estimated 20 refrigerant reclaimers that change ownership or enter the market; 400 hours for reclaimer reporting from an estimated 70 respondents; 40,000 hours for an estimated 5,000 refrigerant wholesalers to maintain records of refrigerant sales transactions; 300 hours for an estimated 10 technician certification programs applying for first-time approval; 1,600 hours for 100 technician certification programs to maintain records; 96,000 hours for an estimated 330,000 technicians acquiring certification and maintaining certification cards; 268,500 hours for an estimated 2,003,850 owners of refrigeration and air-conditioning equipment to maintain records on refrigerant and equipment; and 990 hours for an estimated 210 owners of industrial process refrigeration equipment.

Dated: March 4, 2003.
Drusilla Hufford,
Division Director, Global Programs Division.

[FR Doc. 03-5617 Filed 3-7-03; 8:45 am]

BILLING CODE 6560-50-P